ENVIRONMENTAL PROTECTION AGENCY

[FRL-6936-5]

Request for Statement of Qualifications (RFQ) for Modeling, GIS, Data Analysis and Information Management Support to the Chesapeake Bay Program

AGENCY: Environmental Protection Agency.

ACTION: Notice.

SUMMARY: The U.S. Environmental Protection Agency (EPA) is issuing a request for statement of qualifications for organizations interested in assisting the Chesapeake Bay Program in its effort to provide the Modeling, GIS, Data Analysis and Information Management support for the Bay Program partnership. Applicants must be a local, state, interstate agencies, academic institution, or other nonprofit organizations. Note, this is a request for qualifications for the benefit of the Chesapeake Bay Program partnership and not for direct benefit to EPA. Funding will be provided to an organization under the authority of the Clean Water Act, Section 117.

The RFQ is available at the following web-site: http://www.epa.gov/r3chespk/ You may also request a copy by calling Robert Shewack at 410-267-9856 or by E-mail at: shewack.robert@epa.gov. Statement of qualifications (an original and eight (8) copies) must be postmarked no later than February 20, 2001. Any late, incomplete or fax proposals will not be considered.

William Matuszeski,
Director, Chesapeake Bay Program.

[FR Doc. 01-1977 Filed 1-22-01; 8:45 am]

BILLING CODE 6560-50-M